DEPARTMENT OF JUSTICE

[AAG/A Order No. 206-2000]

Privacy Act of 1974 (5 U.S.C. 552a) As Amended by The Computer Matching and Privacy Protection Act of 1988 (Pub. L. 100-503)

This notice is published in the Federal Register in accordance with the requirements of the Privacy Act, as amended by the Computer Matching and Privacy Protection Act of 1988 (CMPPA) (5 U.S.C. 552a(e)(12)). The Immigration and Naturalization Service (INS), Department of Justice (the source agency), is participating in a computer matching program with the Minnesota Department of Economic Security (MNDES) (the recipient agency). This matching activity will permit the recipient agency to confirm the immigration status, and therefore eligibility status, of alien applicants for, or recipients of, unemployment compensation. Immigration status will be verified under the “Systematic Alien Verification for Entitlements (SAVE)” program as required by the Immigration Reform and Control Act (ICRA) of 1986 (Pub. L. 99-603).

Section 121(c) of the Immigration Reform and Control Act (IRCA) of 1986 amends Section 1137 of the Social Security and other statutes to require agencies which administer the Federal entitlement benefits programs designated within IRCA as amended, to use the INS verification system to determine eligibility. Accordingly, through the use of user identification codes and passwords, authorized persons from these agencies may electronically access the database of an INS system of records entitled “Alien Status Verification Index, Justice/INS-009.” From its automated records system, the MNDES may enter electronically into the INS database the alien registration number of the applicant or recipient. This action will initiate a search of the INS database for a corresponding alien registration number. When such a number is located, MNDES will receive electronically from the INS database the following data upon which to determine eligibility: alien registration number, last name, first name, data of birth, country of birth (not nationality), social security (if available), date of entry, immigration status data, and employment eligibility data. In accordance with 5 U.S.C. 552a(p), MNDES will provide the alien applicant with 30 days notice and an opportunity to contest any adverse finding before final action is taken against that alien because of ineligible immigration status as established through the computer match.

The Department of Justice's Data Integrity Board has approved a new computer matching agreement pursuant to the above-named computer matching program. Matching activities under this new agreement will be effective 30 days after publication of this computer matching notice in the Federal Register, or 40 days after a report concerning the computer matching program has been transmitted to the Office of Management and Budget (OMB), and transmitted to Congress along with a copy of the agreement, whichever is later. The agreement (and matching activity) will continue for a period of 18 months from the effective date unless, within 3 months prior to the expiration of the agreement, the Data Integrity Board approves a one-year extension pursuant to 5 U.S.C. 552a(o)(2)(D).

In accordance with 5 U.S.C. 552a(o)(2)(A) and (r), the required report is being provided to the OMG, and to the Congress together with a copy of the agreement.

Inquiries may be addressed to Kathy Riddle, Procurement Analyst, Management and Planning Staff, Justice Management Division, Department of Justice, Washington, DC 20530.

Dated: October 26, 2000.
Stephen R. Colgate,
Assistant Attorney General for Administration.

[FR Doc. 00-28540 Filed 11-6-00; 8:45 am]

BILLING CODE 4410-CJ-M